DEPARTMENT OF DEFENSE

Department of the Army

Availability of U.S. Patent and U.S. Patent Applications for Non-Exclusive, Exclusive, or Partially Exclusive Licensing for Hand-Held Temperature Programmable Modular Gas Chromatograph, Biological Classification System, and Injection Valves

AGENCY: Department of the Army, DoD.

ACTION: Notice of availability.

SUMMARY: In accordance with 35 U.S.C. 209 and 37 CFR part 404 announcement is made of the availability for licensing of the U.S. Patent Applications and U.S. Patent for non-exclusive, exclusive, or partially exclusive licensing listed in under SUPPLEMENTARY INFORMATION. The inventions listed have been assigned to the United States Government as represented by the Secretary of the Army, Washington, DC.

FOR FURTHER INFORMATION CONTACT: Mr. John Biffoni, Intellectual Property Attorney, U.S. Army Soldier and Biological Chemical Command, ATTN: AMSSB-CC (Bldg. E4435), Aberdeen Proving Ground, MD 21010-5424, Phone: (410) 436-1158; FAX: 410-436-2534 or E-mail: John.Biffoni@sbccom.apgea.army.mil.

SUPPLEMENTARY INFORMATION:

1. Title: “Hand-Held Temperature Programmable Modular Gas Chromatograph.”

Description: The present invention relates to a gas chromatograph system of reduced size, weight and low power consumption for hand-held field applications. More particularly, to a modular gas chromatography system, which is capable of being interfaced with other portable analyzers.

Patent Number: 5,856,616.

Issue Date: January 5, 1999.

2. Title: “Biological Classification System.”

Description: The present invention relates to a hand-held chemical vapor detector for detecting biological substances in an indoor and outdoor setting. More specifically, the invention relates to a plasma chromatograph (PC) vapor detector that is interfaced to a biological sample processing and transfer introduction system.

Patent Application Number: 10/205,356.

Filed: 07/25/2002.

3. Title: “Injection Valves.”

Description: The present invention relates generally to the field of valves and, in particular, to an alternative method for injecting sample fluids into chromatography columns.

Patent Application Number: Not yet assigned.

Filed: 09/11/02.

Luz D. Ortiz,
Army Federal Register Liaison Officer.

[FR Doc. 02-24531 Filed 9-26-02; 8:45 am]

BILLING CODE 3710-08-M